DEPARTMENT OF LABOR

Employment and Training Administration

[TA-W-64,413]

Visteon Systems, LLC, North Penn Plant, Electronics Products Group, Including On-Site Leased Workers From Ryder Integrated Logistics Lansdale, PA; Amended Certification Regarding Eligibility To Apply for Worker Adjustment Assistance and Alternative Trade Adjustment Assistance

In accordance with Section 223 of the Trade Act of 1974 (19 U.S.C. 2273), and Section 246 of the Trade Act of 1974, as amended, the Department of Labor issued a Certification of Eligibility to Apply for Worker Adjustment Assistance and Alternative Trade Adjustment Assistance on December 15, 2008, applicable to workers of Visteon Systems, LLC, North Penn Plant, Electronics Products Group, including on-site leased workers from Ryder Intergrated Logistics, Lansdale, Pennsylvania. The notice will be published soon in the Federal Register.

At the request of the State agency, the Department reviewed the certification for workers of the subject firm. The workers produce power control modules, SDARS, and sensors.

The review shows that all workers of Visteon Systems, LLC, North Penn Electronics Facility, Lansdale, Pennsylvania, were certified eligible to apply for adjustment assistance under petition number TA-W-60,432, which expired on December 5, 2008.

In order to avoid an overlap in worker group coverage, the Department is amending the current certification for workers of Visteon Systems, LLC, North Penn Plant, Electronics Products Group, Lansdale, Pennsylvania, to change the impact date from October 29, 2007 to December 6, 2008.

The amended notice applicable to TA-W-64,413 is hereby issued as follows:

All workers of Visteon Systems, LLC, North Penn Plant, Electronics Products Group, including on-site leased workers from Ryder Integrated Logistics, Lansdale, Pennsylvania, who became totally or partially separated from employment on or after December 6, 2008 through December 15, 2010, are eligible to apply for adjustment assistance under Section 223 of the Trade Act of 1974, and are also eligible to apply for alternative trade adjustment assistance under Section 246 of the Trade Act of 1974.

Signed in Washington, DC, this 29th day of December 2008.
Linda G. Poole,
Certifying Officer, Division of Trade Adjustment Assistance.

[FR Doc. E8-31333 Filed 1-5-09; 8:45 am]

BILLING CODE 4510-FN-P